DEPARTMENT OF LABOR

Office of the Secretary

Submission for OMB Review: Comment Request

September 28, 2004.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting the Department of Labor (DOL). To obtain documentation, contact Darrin King on 202-693-4129 (this is not a toll-free number) or email: king.darrin@dol.gov.

Comments should be sent to Office of Information and Regulatory Affairs, Attn: OMB Desk Officer for the Occupational Safety and Health Administration (OSHA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension of currently approved collection.

Title: Logging Operations (29 CFR 1910.266).

OMB Number: 1218-0198.

Frequency: On occasion and initially.

Type of Response: Recordkeeping.

Affected Public: Business or other for-profit; not-for-profit institutions; Federal Government; and State, Local, or Tribal Government.

Number of Respondents: 12,098.

Number of Annual Responses: 118,962.

Estimated Time Per Response: Varies from 1 minute to maintain a record to 3 hours to conduct initial training.

Total Burden Hours: 30,751.

Total Annualized capital/startup costs: $0.

Total Annual Costs (operating/maintaining systems or purchasing services): $0.

Description: 29 CFR 1910.266 requires employers to ensure that operating and maintenance instructions are available for machinery and vehicles used in logging operations; to provide training to employees and supervisors and to document this training. These information collection requirements are necessary to ensure the occupational safety of workers in logging operations.

Ira L. Mills,
Departmental Clearance Officer.

[FR Doc. 04-22326 Filed 10-4-04; 8:45 am]

BILLING CODE 4510-23-P